DEPARTMENT OF THE INTERIOR

Fish and Wildlife Service

[FWS-R6-ES-2015-N010; FXES11130600000-156-FF06E00000]

Endangered and Threatened Species; Permits

AGENCY: Fish and Wildlife Service, Interior.

ACTION: Notice of issuance of permits.

SUMMARY: We, the U.S. Fish and Wildlife Service, have issued the following permits to conduct certain activities with endangered species under the authority of the Endangered Species Act, as amended (Act).

FOR FURTHER INFORMATION CONTACT: Kathy Konishi, Recovery Permit Coordinator, Ecological Services, (719) 628-2670 (phone); permitsR6ES@fws.gov (email).

SUPPLEMENTARY INFORMATION: We have issued the following permits in response to recovery permit applications we received under the authority of section 10 of the Act (16 U.S.C. 1531 et seq.). Issuance of each permit occurred only after we determined that it was applied for in good faith, that granting the permit would not be to the disadvantage of the listed species, and that the terms and conditions of the permit were consistent with purposes and policy set forth in the Act.

Applicant name | Permit No. | Date issued | Date expired
BIO-LOGIC INC. | 36792A | 12/1/2014 | 12/31/2019
BLAHA RANCH, INC. | 40466B | 10/10/2014 | 10/7/2034
BOROFF LAND & LIVESTOCK | 40464B | 10/10/2014 | 10/7/2034
BOUSMAN LIVESTOCK, INC. | 32286B | 10/10/2014 | 10/7/2034
CITY OF FORT COLLINS NATURAL AREAS DEPARTMENT | 42721B | 10/21/2014 | 9/30/2019
DEFENDERS OF WILDLIFE | 40145B | 12/1/2014 | 12/31/2019
G&E LIVESTOCK, INC. | 32288B | 10/10/2014 | 10/7/2034
HIP INVESTMENTS LLC | 40463B | 10/10/2014 | 10/7/2034
LAWRENCE, CINDY | 27300B | 7/11/2014 | 6/30/2019
LONGREACH BUFFALO CO, LLC | 42567B | 10/10/2014 | 10/7/2034
MARETTE, BRANDON B. | 25496B | 12/15/2014 | 12/31/2019
MERLIN RANCH, INC. | 40602B | 10/10/2014 | 10/7/2034
NATIONAL PARK SERVICE | 191853 | 8/20/2014 | 7/1/2019
PAPE RANCHES, INC. | 40467B | 10/10/2014 | 10/7/2034
PETERSON, JOHN F. | 34900B | 12/5/2014 | 12/31/2019
ROGERS, DONALD W. | 40478B | 10/10/2014 | 10/7/2034
U.S. GEOLOGICAL SURVEY | 121914 | 7/25/2014 | 5/31/2019
UTAH DIVISION OF WILDLIFE RESOURCES | 39634B | 6/23/2014 | 6/16/2050

Availability of Documents

Documents and other information submitted with these applications are available for review, subject to the requirements of the Privacy Act and Freedom of Information Act, by any party who submits a written requires for a copy of such documents to Kathy Konishi (see FOR FURTHER INFORMATION CONTACT).

Authority

We provide this notice under section 10 of the Act (16 U.S.C. 1531 et seq.).

Michael G. Thabault,
Assistant Regional Director, Mountain-Prairie Region.

[FR Doc. 2015-06519 Filed 3-20-15; 8:45 am]

BILLING CODE 4310-55-P